INTERNATIONAL TRADE COMMISSION

[Investigation No. 337-TA-1177]

Certain Semiconductor Devices, Products Containing the Same, and Components Thereof (II); Commission Determination Not To Review an Initial Determination Terminating the Investigation in its Entirety Based on a Settlement Agreement; Termination of the Investigation

AGENCY: U.S. International Trade Commission.

ACTION: Notice.

SUMMARY: Notice is hereby given that the U.S. International Trade Commission has determined not to review an initial determination (“ID”) (Order No. 5) of the presiding administrative law judge (“ALJ”) terminating the investigation as to all respondents, Taiwan Semiconductor Manufacturing Co., Ltd. of Hsinchu, Taiwan; TSMC North America and TSMC Technology, Inc. of San Jose, California (collectively, “TSMC”); Broadcom Inc., Broadcom Corporation, and Cisco Systems, Inc., all of San Jose, California; NVIDIA Corporation and Arista Networks, Inc., both of Santa Clara, California; Apple Inc. of Cupertino, California; ASUSTeK Computer Inc. of Taipei, Taiwan; and Lenovo Group Ltd. of Beijing, China (collectively, “Respondents”), based on a settlement agreement. The investigation is terminated.

FOR FURTHER INFORMATION CONTACT: Clint Gerdine, Esq., Office of the General Counsel, U.S. International Trade Commission, 500 E Street SW, Washington, DC 20436, telephone (202) 708-2310. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on October 2, 2019, based on a complaint filed on behalf of Globalfoundries U.S. Inc. (“Globalfoundries”) of Santa Clara, California. 84 FR 52535-36 (Oct. 2, 2019). The complaint alleges violations of section 337 of the Tariff Act of 1930, as amended, 19 U.S.C. 1337, based upon the importation into the United States, the sale for importation, and the sale within the United States after importation of certain semiconductor devices, products containing the same, and components thereof by reason of infringement of certain claims of U.S. Patent Nos. 8,823,178; 9,105,643; 7,378,357; and 9,082,877. The Commission's notice of investigation names all Respondents. The Office of Unfair Import Investigations (“OUII”) is participating in the investigation.

On November 12, 2019, Globalfoundries and Respondents jointly moved to terminate the investigation based on a settlement agreement between Globalfoundries and TSMC that resolves all issues as to all Respondents in the investigation. On November 18, 2019, OUII filed a response in support of the motion.

On November 25, 2019, the ALJ issued the subject ID (Order No. 5), granting the joint motion to terminate the investigation in its entirety based on the settlement agreement. The ID finds that the motion for termination satisfied Commission Rules 210.21(a)(2) and (b)(1) (19 CFR 210.21(a)(2), (b)(1)) and that termination of the investigation is not contrary to the public interest. No party petitioned for review.

The Commission has determined not to review the subject ID. The investigation is terminated.

The authority for the Commission's determination is contained in section 337 of the Tariff Act of 1930, as amended, 19 U.S.C. 1337, and in Part 210 of the Commission's Rules of Practice and Procedure, 19 CFR part 210.

By order of the Commission.
Issued: December 20, 2019.
Lisa Barton,
Secretary to the Commission.

[FR Doc. 2019-28043 Filed 12-27-19; 8:45 am]

BILLING CODE 7020-02-P